NATIONAL SCIENCE FOUNDATION

Advisory Panel for Biological Infrastructure; Notice of Meeting

In accordance with the Federal Advisory Committee Act (Pub. L. 92-463, as amended), the National Science Foundation announces the following meetings of the Advisory Panel for Biological Infrastructure (1215):

1. Date and Time: November 29—December 1, 2000, 8:30 am—5 pm.

Contact Person: Gerald Selzer, Program Director Biological Instrumentation and Instrument Development, National Science Foundation, Rm. 615, 4201 Wilson Boulevard, Arlington, VA 22230. Telephone (703) 292-8470.

2. Date and Time: December 13-14, 2000, 8:30 am—5 pm.

Contact Person: Mary McKitrick, Program Director, Biological Research Collections, Division of Biological Infrastructure, 4201 Wilson Boulevard, Room 615, Arlington, VA 22230. Telephone (703) 292-8470.

Place: National Science Foundation, 4201 Wilson Blvd., Arlington, VA 22230.

Type of Meetings: Closed.

Purpose of Meetings: To provide advice and recommendations concerning proposals submitted to NSF for financial support.

Agenda: To review and evaluate proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: October 31, 2000.
Karen J. York,
Committee Management Officer.

[FR Doc. 00-28407 Filed 11-3-00; 8:45 am]

BILLING CODE 7555-01-M